DEPARTMENT OF ENERGY

Orders Granting Authority To Import and Export Natural Gas, and To Import and Export Liquefied Natural Gas During November 2014

| FE Docket Nos.
FREEPORT LNG EXPANSION, L.P. AND FLNG LIQUEFACTION, LLC | 10-161-LNG
FREEPORT LNG EXPANSION, L.P. AND FLNG LIQUEFACTION, LLC | 11-161-LNG
MONTANA-DAKOTA UTILITIES COMPANY | 14-161-NG
ACCESS GASSERVICES (ONTARIO) INC | 14-162-NG
ALTAGAS LTD | 14-164-NG
ENERGIA DE BAJA DE CALIFORNIA, S. DE. R.L. DE C.V | 14-165-NG
ACTIVE ENERGY CORP | 14-167-NG
FAMILY ENERGY INC | 14-169-NG
PLYMOUTH ROCK ENERGY LLC | 14-174-NG
GDF SUEZ GAS NA LLC | 14-176-LNG
EXELON GENERATION COMPANY, LLC | 14-178-NG
KOLD ENERGY, INC.\ | 14-181-NG
ALASKA LNG PROJECT LLC | 14-96-LNG

AGENCY: Office of Fossil Energy, Department of Energy.

ACTION: Notice of orders.

SUMMARY: The Office of Fossil Energy (FE) of the Department of Energy gives notice that during November 2014, it issued orders granting authority to import and export natural gas, and to import and export liquefied natural gas (LNG). These orders are summarized in the attached appendix and may be found on the FE Web site at http://www.energy.gov/fe/downloads/listing-doefe-authorizations-issued-2014. They are also available for inspection and copying in the Office of Fossil Energy, Office of Oil and Gas Global Security and Supply, Docket Room 3E-033, Forrestal Building, 1000 Independence Avenue SW., Washington, DC 20585, (202) 586-9478. The Docket Room is open between the hours of 8:00 a.m. and 4:30 p.m., Monday through Friday, except Federal holidays.

Issued in Washington, DC, on September 25, 2015.
John A. Anderson,
Director, Office of Oil and Gas Global Security and Supply, Office of Oil and Natural Gas.

Appendix—DOE/FE Orders Granting Import/Export Authorizations
3282-C | 11/14/14 | 10-161-LNG | Freeport LNG Expansion, L.P. and FLNG Liquefaction, LLC | Final Opinion and Order granting long-term Multi-contract authority to export LNG by vessel from the Freeport LNG Terminal on Quintana Island, Texas, to Non-Free Trade Agreement Nations.
3357-B | 11/14/14 | 11-161-LNG | Freeport LNG Expansion, L.P. and FLNG Liquefaction, LLC | Order granting blanket authority to import LNG from various international sources by vessel and to export LNG to Canada/Mexico by vessel.
3544 | 11/21/14 | 14-161-NG | Solensa S.A. de C.V | Order granting blanket authority to export LNG to Mexico by truck.
3546 | 11/21/14 | 14-164-NG | Trans-Peco Pipeline, LLC | Order granting blanket authority to import/export natural gas from/to Mexico.
3547 | 11/21/14 | 14-165-NG | Sandcastle Petroleum Gas & Energy, LLC | Order granting blanket authority to export LNG in ISO Containers loaded on vessels and in LNG vessels to Free Trade Agreement nations.
3548 | 11/21/14 | 14-167-NG | Venture Global Calcasieu Pass, LLC | Order granting long-term, multi-contract authority to export LNG by vessel from the proposed Venture Global Calcasieu Pass LNG Project in Cameron Parish, Louisiana to Free Trade Agreement nations.
3549 | 11/21/14 | 14-169-NG | Cascade Natural Gas Corporation | Order granting blanket authority to import natural gas from Canada.
3550 | 11/21/14 | 14-174-NG | Southern California Gas Company | Order granting blanket authority to import/export natural gas from/to Mexico.
3551 | 11/21/14 | 14-176-LNG | Hermiston Generating Company, L.P | Order granting blanket authority to import natural gas from Canada.
3552 | 11/21/14 | 14-178-NG | SV Global LNG Trading Company, LLC | Order granting blanket authority to import LNG from various international sources by vessel.
3553 | 11/21/14 | 14-181-NG | PetroChina International (Canada) Trading Ltd | Order granting blanket authority to import/export natural gas from/to Canada and vacating prior authorization.
3554 | 11/21/14 | 14-96-LNG | Gazprom Marketing & Trading USA, Inc | Order granting blanket authority to import/export natural gas from/to Canada/Mexico.

[FR Doc. 2015-25032 Filed 9-30-15; 8:45 am]

BILLING CODE 6450-01-P